DEPARTMENT OF HEALTH AND HUMAN SERVICES

Meeting of the National Advisory Committee on Children and Disasters and the National Preparedness and Response Science Board

AGENCY: Office of the Secretary, Department of Health and Human Services.

ACTION: Notice.

SUMMARY: As stipulated by the Federal Advisory Committee Act, the Department of Health and Human Services (HHS) is hereby giving notice that the National Advisory Committee on Children and Disasters (NACCD) and the National Preparedness and Response Science Board (NPRSB) will be holding a joint public teleconference.

DATES: The NACCD and NPRSB will hold a joint public meeting on June 17, 2016, from 1:00 p.m. to 2:00 p.m. EST. The agenda is subject to change as priorities dictate.

ADDRESSES: Individuals who wish to participate should send an email to NACCD@HHS.GOV and NPRSB@HHS.GOV with “NACCD Registration” or “NPRSB Registration” in the subject line. The meeting will occur by teleconference. To attend via teleconference and for further instructions, please visit the NACCD and NPRSB Web sites at WWW.PHE.GOV/NACCD or WWW.PHE.GOV/NPRSB.

FOR FURTHER INFORMATION CONTACT: Please submit an inquiry via the NPRSB Contact Form or the NACCD Contact Form located at www.phe.gov/NACCDComments or www.phe.gov/NBSBComments.

SUPPLEMENTARY INFORMATION: Pursuant to the Federal Advisory Committee Act (FACA) of 1972 (5 U.S.C., Appendix, as amended), and section 2811A of the Public Health Service (PHS) Act (42 U.S.C. 300hh-10a), as added by section 103 of the Pandemic and All Hazards Preparedness Reauthorization Act of 2013 (Pub. L. 113-5), the HHS Secretary, in consultation with the Secretary of the U.S. Department of Homeland Security, established the NACCD. The purpose of the NACCD is to provide advice and consultation to the HHS Secretary with respect to the medical and public health needs of children in relation to disasters. Pursuant to section 319M of the PHS Act (42 U.S.C. 247d-7f) and section 222 of the PHS Act (42 U.S.C. 217a), HHS established the NPRSB. The Board shall provide expert advice and guidance to the Secretary on scientific, technical, and other matters of special interest to HHS regarding current and future chemical, biological, nuclear, and radiological agents, whether naturally occurring, accidental, or deliberate. The NPRSB may also provide advice and guidance to the Secretary and/or the Assistant Secretary for Preparedness and Response (ASPR) on other matters related to public health emergency preparedness and response.

Background: This joint public meeting via teleconference will be dedicated to the NACCD and NPRSB's deliberation and vote on the youth leadership task letter received from the ASPR. Subsequent agenda topics will be added as priorities dictate. Any additional agenda topics will be available on the June 17, 2016, meeting Web pages of the NACCD and NPRSB, available at WWW.PHE.GOV/NACCD and WWW.PHE.GOV/NPRSB.

Availability of Materials: The joint meeting agenda and materials will be posted prior to the meeting on the June 17th meeting Web pages at WWW.PHE.GOV/NACCD and WWW.PHE.GOV/NPRSB.

Procedures for Providing Public Input: Members of the public are invited to attend by teleconference via a toll-free call-in phone number which is available on the NPRSB or NACCD Web sites at WWW.PHE.GOV/NACCD and WWW.PHE.GOV/NPRSB. All members of the public are encouraged to provide written comment to the NPRSB and NACCD. All written comments must be received prior to June 17, 2016, and should be sent by email to NACCD@HHS.GOV or NPRSB@HHS.GOV with “NACCD Public Comment” or “NPRSB Public Comment” as the subject line. Public comments received by close of business one week prior to the teleconference will be distributed to the NACCD or NPRSB in advance.

Dated: May 18, 2016.
Nicole Lurie,
Assistant Secretary for Preparedness and Response.

[FR Doc. 2016-12318 Filed 5-24-16; 8:45 am]

BILLING CODE P